Title 3—

The President

Proclamation 10279 of October 8, 2021

National School Lunch Week, 2021

By the President of the United States of America

A Proclamation

Since 1946, the National School Lunch Program has provided nutritionally balanced, low-cost or no-cost lunches in our schools, improving our children's health and well-being. School meals are one of the most powerful ways in which our Nation promotes health and ensures children receive the nutritious food they need to be successful in the classroom. Today, tens of millions of children participate in the program. During National School Lunch Week, we recognize the integral role the National School Lunch Program plays in contributing to student health, reducing child hunger, and supporting American agriculture.

The COVID-19 pandemic has amplified the importance of the National School Lunch Program for millions of children who rely on school meals. During the darkest days of the pandemic when businesses closed, people lost their jobs, and millions of Americans turned to food banks to feed their families, school meals remained a consistent source of quality nutrition.

My Administration is dedicated to nutrition, food security, and ensuring that school meals are accessible to all children. This includes a commitment to providing safe, healthy meals free of charge to children, especially as the pandemic continues to compromise the food and nutrition security of our most vulnerable students. To help the millions of families who struggled to provide meals for their children during the pandemic, the American Rescue Plan provided additional emergency food and nutrition assistance for those in need.

School meals would not be possible without the remarkable work of our Nation's farmers and food producers. This year, my Administration awarded $12 million in Farm to School Grants to 176 grantees—the most projects the Federal Government has funded since the program began in 2013. These grants increase access to locally produced foods, enhance agricultural education for students, and support local farmers. Strong partnership with local farmers is key to our efforts to improve nutrition security and increase access to healthy foods in schools. During National School Lunch Week, we show our appreciation to our local farmers who supply the foods that keep our children well-nourished and ready to learn.

During National School Lunch Week, we also honor the commitment and dedication of the school nutrition professionals who have gone above and beyond to continue providing meals to students despite the continuing challenges of a once-in-a-century pandemic. They have continually found new and creative ways to meet the moment and ensure that students who depend on school meals for nourishment are able to grow and thrive.

The Congress, by joint resolution of October 9, 1962 (Public Law 87-780), as amended, has designated the week beginning on the second Sunday in October each year as “National School Lunch Week” and has requested the President to issue a proclamation in observance of this week.

NOW, THEREFORE, I, JOSEPH R. BIDEN JR., President of the United States of America, by virtue of the authority vested in me by the Constitution and the laws of the United States, do hereby proclaim October 10 through October 16, 2021, as National School Lunch Week. I call upon all Americans to recognize and commemorate all those who operate the National School Lunch Program with activities that raise awareness of the steadfast efforts in supporting the health and well-being of our Nation's children.

IN WITNESS WHEREOF, I have hereunto set my hand this eighth day of October, in the year of our Lord two thousand twenty-one, and of the Independence of the United States of America the two hundred and forty-sixth.

[FR Doc. 2021-22511

Filed 10-13-21; 8:45 am]

Billing code 3395-F2-P